DEPARTMENT OF JUSTICE

Notice of Lodging of Consent Decree Pursuant to the Clean Water Act

In accordance with 28 CFR 50.7, 38 FR 19029, notice is hereby given that on June 28, 2001, a Consent Decree was lodged with the United States District Court for the District of Massachusetts in United States v. National Railroad Passenger Corporation Civil Action No. 01-11121-RWZ. A complaint in the action was also filed simultaneously with the lodging of the Consent Decree. In the complaint the United States, on behalf of the U.S. Environmental Protection Agency (EPA), alleges that the defendant National Railroad Passenger Corporation (Amtrak) violated the Clean Water Act, 33 U.S.C. 1251, et seq., at nine Amtrak facilities in Massachusetts, Connecticut and Rhode Island. The violations involve EPA requirements for control of storm water discharges; requirements of Amtrak's pollutant discharge permits; pretreatment requirements; Spill Prevention Control and Countermeasure requirements; and a small oil spill into navigable waters. The consent decree requires Amtrak to pay a cash penalty of $500,000, and implement two Supplemental Environmental Projects at a cost of $900,000. The consent decree also requires Amtrak to comply with relevant environmental laws at the nine identified facilities, and to also conduct a multi-media compliance audit for each of its 51 facilities nation-wide. Amtrak is also required to implement a comprehensive Environmental Management System involving the entire company.

The Department of Justice will receive comments relating to the proposed Consent Decree for a period of thirty (30) days from the date of this publication. Comments should be addressed to the Assistant Attorney General, Environment and Natural Resources Division, Department of Justice, P.O. Box 7611, Washington, DC 20044, and should refer to United States v. National Railroad Passenger Corporation, D.J. Ref. 90-5-1-1-06798.

The proposed consent decree may be examined at the office of the United States Attorney, Suite 9200, 1 Courthouse Way, Boston, Massachusetts 02110, and at the Region I office of the Environmental Protection Agency, One Congress Street, Suite 1100, Boston, Massachusetts 02114. A copy of the proposed consent decree may also be obtained by mail from the Department of Justice Consent Decree Library, PO Box 7611, Washington, DC 20044. In requesting a copy, please enclose a check (there is a 25 cent per page reproduction cost) in the amount of $37.75 payable to the “Consent Decree Library.”

Ronald G. Gluck,
Assistant Chief, Environmental Enforcement Section, Environment & Natural Resources Division.

[FR Doc. 01-18078 Filed 7-18-01; 8:45 am]

BILLING CODE 4410-15-M